NUCLEAR REGULATORY COMMISSION

[Docket No. 52-0010; NRC-2010-0135]

RIN 3150-AI85

ESBWR Design Certification

AGENCY: Nuclear Regulatory Commission.

ACTION: NUREG; issuance.

SUMMARY: The U.S. Nuclear Regulatory Commission (NRC) is issuing NUREG-1966, “Final Safety Evaluation Report Related to the Certification of the Economic Simplified Boiling-Water Reactor Standard Design.” On August 24, 2005, General Electric-Hitachi Nuclear Energy tendered its application for certification of the economic simplified boiling-water reactor (ESBWR) standard nuclear reactor design to the NRC. The application included the ESBWR design control document (DCD) and the ESBWR probabilistic risk assessment (PRA). On March 24, 2011, the NRC published the proposed rule in the Federal Register.

ADDRESSES: Please refer to Docket ID NRC 2010-0135 when contacting the NRC about the availability of information regarding this document. You may access publicly-available information related to this document using any of the following methods:

• Federal Rulemaking Web site: Go to http://www.regulations.gov and search for Docket ID NRC 2010-0135. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: David Misenhimer, Office of New Reactors, U.S. Nuclear Regulatory Commission, Washington, DC 20555-0001; telephone: 301-415-6590, email: David.Misenhimer@nrc.gov.

SUPPLEMENTARY INFORMATION: On August 24, 2005, General Electric-Hitachi Nuclear Energy tendered its application for certification of the ESBWR standard nuclear reactor design to the NRC. The applicant submitted this application in accordance with Part 52 of Title 10 of the Code of Federal Regulations, “Licenses, Certifications, and Approvals for Nuclear Power Plants,” Subpart B, “Standard Design Certifications.” The application included the ESBWR DCD and the ESBWR PRA.

On March 9, 2011, the staff issued the final safety evaluation report (ADAMS Accession Number ML103470210) and final design approval (ADAMS Accession Number ML110540310) for the ESBWR standard design. On March 24, 2011, the NRC published the proposed rule in the Federal Register (76 FR 16549). In late 2011, while the NRC staff was preparing the final rule, issues were identified with the ESBWR steam dryer, a non-safety related component. These issues called into question certain conclusions in the staff's safety review. Publication of NUREG-1966 was delayed while the steam dryer design methodology was under review. The NRC issued requests for additional information (RAIs). Resolution of these issues required additional analyses by the applicant and review by the NRC staff in order for the NRC staff to conclude the design is acceptable for certification. Responses to all RAIs were received in December 2013. An Advanced Supplemental FSER was issued to the ACRS on February 12, 2014 which became publicly available on April 17, 2014 (ADAMS Accession No. ML14043A134). The supplemental final safety evaluation report includes the NRC staff's safety review of the steam dryer issues. This notice announces the final safety evaluation report was published as NUREG-1966 in April 2014 (ADAMS Accession No. ML14100A304).

Dated at Rockville, Maryland, this 1st day of May 2014.
For the Nuclear Regulatory Commission.
Ronaldo Jenkins,
Chief, Licensing Branch 3, Division of New Reactor Licensing, Office of New Reactor.

[FR Doc. 2014-10716 Filed 5-8-14; 8:45 am]

BILLING CODE 7590-01-P